LIBRARY OF CONGRESS

Copyright Office

37 CFR Part 201

[Docket No. 2006-3]

Notice of Termination

AGENCY: Copyright Office, Library of Congress.

ACTION: Final rule: technical amendment.

SUMMARY: The Copyright Office is making a technical amendment in the regulation regarding notices of termination of transfers and licenses to clarify determination of the date on which notice was served. In instances where first class mail is used, the date on which notice of termination is served is the day on which the notice was mailed.

DATES: Effective Date: June 27, 2006.

FOR FURTHER INFORMATION CONTACT: Kent Dunlap, Principal Legal Advisor for the General Counsel, Telephone: (202) 707-8380. Telefax: (202) 707-8366.

SUPPLEMENTARY INFORMATION: Section 201.10 of the Copyright Office's regulations establishes procedures governing the form, content, and manner of service of notices of termination of transfers and licenses under sections 203 and 304 of the copyright law, 17 U.S.C. 203, 304. Regarding service of a notice of termination, § 201.10(d)(1) of the regulations provides that service on each grantee shall be made “by personal service, or by first-class mail sent to an address which, after a reasonable investigation, is found to be the last known address of the grantee or successor in title.” In order to record a notice of termination, § 201.10(f)(ii) requires “[t]he copy submitted for recordation shall be accompanied by a statement setting forth the date on which the notice was served and the manner of service, unless such information is contained in the notice.”

With respect to notices served by mail, date of service as referred to in § 201.10(f)(ii) means the day on which the notice of termination is mailed. The Documents Section of the Copyright Office has noted that a number of filings of notices of termination do not specify a single day date, but qualify the statement by saying “on or about,” or some other similar qualifier. It is our understanding that the reason some applicants avoid designating a single day date is the belief that the date of service is intended to mean the date on which the grantee receives the notice. In order to clarify this matter, we are adding a sentence at the end of § 201.10(f)(1)(ii) providing: “[i]n instances where service is made by first-class mail, the date of service shall be the day the notice of termination was deposited with the United States Postal Service.”

Because this amendment is declarative of the Office's existing policy and practices and is being issued simply for purposes of clarification, the Office finds that there is good cause to make it effective immediately.

List of Subjects in 37 CFR Part 201

Copyright.

Technical Amendment

In consideration of the foregoing, the Copyright Office is amending part 201 of 37 CFR, chapter II in the manner set forth below.

PART 201—GENERAL PROVISIONS

1. The authority citation for part 201 continues to read as follows:

Authority: 17 U.S.C. 702.

2. Amend § 201.10 (f)(1)(ii) by adding a sentence to the end of the paragraph to read as follows:

§ 201.10 Notices of termination of transfers and licenses.

* * * * *

(f) * * *

(1) * * *

(ii) * * * In instances where service is made by first-class mail, the date of service shall be the day the notice of termination was deposited with the United States Postal Service.

* * * * *

Dated: June 20, 2006.
Marybeth Peters,
Register of Copyright.
Approved by:
James H. Billington,
Librarian of Congress.

[FR Doc. E6-10091 Filed 6-26-06; 8:45 am]

BILLING CODE 1410-30-P